DEPARTMENT OF COMMERCE

International Trade Administration

U.S. Microelectronics Trade Mission

AGENCY: International Trade Administration, Department of Commerce.

ACTION: Notice to Microelectronics Trade Mission to Shanghai, China, March 20-23, 2006.

SUMMARY: The United States Department of Commerce, International Trade Administration, U.S. Commercial Service, Office of Global Trade Programs is organizing a microelectronics trade mission to China, March 20-23, 2006. This trade mission will take place during the highly acclaimed annual Shanghai exhibition Electronica and Productronica China 2006—co-located with SEMICON China. Participating firms will not only have pre-arranged one-on-one meetings scheduled for them by the U.S. Commercial Service in Shanghai, but will also have the opportunity to make additional business contacts at the exhibition. A similar microelectronics trade mission took place in March 2005.

Contact: Office of Global Trade Programs; Room 2012; Department of Commerce; Washington, DC 20230; Tel: (202) 482-4457; Fax: (202) 482-0178.

SUPPLEMENTARY INFORMATION: Microelectronics Trade Mission, Shanghai, China, March 20-23, 2006.

Mission Statement

I. Description of the Mission

The United States Department of Commerce, International Trade Administration, U.S. Commercial Service, Office of Global Trade Programs is organizing a microelectronics trade mission to China, March 20-23, 2006. This trade mission will take place during the highly acclaimed annual Shanghai exhibition Electronica and Productronica China 2006—co-located with SEMICON China. Participating firms will not only have pre-arranged one-on-one meetings scheduled for them by the U.S. Commercial Service in Shanghai, but will also have the opportunity to make additional business contacts at the exhibition. A similar microelectronics trade mission took place in March 2005.

Trade mission participants will include representatives from U.S. firms specializing in microelectronics design, manufacturing, and distribution, including semiconductor devices, integrated circuit design services, semiconductor manufacturing equipment, clean room equipment, and electronics packaging/interconnects.

II. Commercial Setting for the Mission

Microelectronics design, manufacturing, and distribution make the foundation for the rapid growth of e-commerce, Web-enabled technologies, and wireless technologies that will be the major business prospects in the 21st century in Asia. The Chinese Government is strongly committed to the development of a domestic microelectronics industry to enable the adoption of Information Technology (IT) nationwide and to improve economic productivity.

The first wave of semiconductor manufacturing activity and investment is well under way in China, based on the growth of wafer fabrication facilities (fabs) and semiconductor packaging and test houses producing older-generation devices. China represents only a small portion of worldwide semiconductor production capacity. This is changing dramatically as more investment pours into the country, significantly increasing the number of fabs, assembly and test plants, electronics material production and very likely, semiconductor manufacturing equipment production in China. There is a sizeable overseas influence in China, and of all the announced semiconductor industry projects, those with overseas support are the most likely to survive in the rapidly growing China market.

China's total semiconductor consumption reached $42 billion in 2004. IT products, consumer electronics, communications and industrial instrumentation are the main applications driving Chinese semiconductor demand. In 2004, new semiconductor manufacturing equipment sales in China were $2.73 billion, while used/refurbished equipment revenues were an estimated $180 million. The used and refurbished equipment market in China is expected to grow in the coming years, approaching $500 million by 2007. Most Chinese fabs and foundries are confident that 150 mm and 0.35 micron to 1.0 micron technology will remain strong over the next five years in China, though the majority of capacity and output will gradually shift to 200 mm and 0.25 micron to 0.13 micron production lines. The 300 mm fab era has also come to China with one fab in operation and several additional fabs possible over the next three years.

These development trends indicate that China is emerging as a new and strong production base for electronic and IT products in Asia. With this rapid growth in the IT sector, China is forced to build its strong microelectronics industry primarily on imports and investment from foreign suppliers. Shanghai, Beijing, and Hong Kong are among the cities that lead China's IT industry growth.

III. Goals for the Mission

The goal is to assist U.S. microelectronics industry's small- to medium-sized enterprises (SMEs) in achieving their export business objectives in the Chinese market through participation in this trade mission, which will take place during a major microelectronics exhibition. Mission participants will gain first-hand market exposure; meet with potential agents, distributors, and business partners from the private sector; and obtain information that will help to position their firms to take advantage of the strong business opportunities in China's microelectronics market.

IV. Scenario for the Mission

The primary focus of the mission is on Shanghai. The schedule includes site visits, briefings by the U.S. government, and an export control seminar sponsored by the Semiconductor Equipment Materials International (SEMI) Association. The purpose of the site visits will be to provide a broad vision of the Chinese electronics/semiconductor industry, which will help the participants to better understand the Chinese market. Attendance at the export control seminar will be invaluable for mission participants, as it will cover the full gamut of export control requirements for technology companies. It will include government requirements and perspective, industry perspective and best practices, and business advantages for companies that manage export controls strategically. A SEMICON forum, which all of the participants will be invited to attend, will also be on the agenda. The dates of the exhibition are March 21-23, 2006. The U.S. Commercial Service in Shanghai will set aside time for pre-arranged individual business meetings for the mission participants. In addition, the participants will have the opportunity to conduct business with exhibitors at the show, as well as display company literature in a booth at the exhibition. No other types of exhibition items may be displayed. A hospitality reception for the participants will be held the evening of March 23.

Timetable

Saturday, March 18—Arrive Shanghai (optional); activities open.

Sunday, March 19—Arrive Shanghai (optional); no host dinner at hotel and/or activities open.

Monday, March 20—Breakfast briefing for participants with Commercial Service Shanghai staff; and high-tech industry park meetings and/or site tours to:

HHNEC (Shanghai Hua Hong NEC Electronics Company) Intel.

Grace Semiconductor Manufacturing Corp. (GSMC). Semiconductor Manufacturing International Corp. (SMIC).

Tuesday, March 21—All-day individual one-on-one pre-arranged business meetings for participants.

Wednesday, March 22—SEMI association market briefing in morning. Attend exhibition in afternoon.

Thursday, March 23—Attend SEMI China export control seminar in morning. Attend exhibition in afternoon. Reception in evening.

Friday, March 24—Participants may wish to have follow-up business visits/appointments or depart for U.S.

Note: These dates and activities are tentative and subject to change. The final schedule will depend on the availability of Chinese officials, specific goals of mission participants, and air travel schedules.

V. Criteria for Participation

• Relevance of the company's business line to mission's scope and goals;

• Potential for business in the China market;

• Timeliness of the company's signed and completed application, and participation agreement, and payment of the mission participation fee of $2,500 for the first company representative, and $500 each for additional representatives;

• Provision of adequate information on the company's products and/or services and communication of the company's primary objectives to facilitate appropriate matching with potential business partners;

• Certification that the company meets Departmental guidelines for participation, including certification that the company's products and/or services are manufactured or produced in the United States, or if manufactured/produced outside of the United States, the product/services should be marketed under the name of the U.S. firm and have U.S. content of at least fifty-one percent of the value of the finished good or service.

A minimum of eight and a maximum of fifteen participating companies will be recruited in an open and public manner, including publication in the Federal Register; posting on the Internet; press releases to general and trade media; direct mail and broadcast fax; notices by industry trade associations and other multiplier groups; and announcements at industry meetings, symposiums, conferences, and trade shows.

Any partisan political activities (including political contributions) of an applicant are entirely irrelevant to the selection process. The $2,500 trade mission participation fee does not include the cost of travel, lodging, and meals. Recruitment will begin immediately and will close on February 3, 2006.

Contact, Marlene Ruffin, Global Trade Programs, U.S. & Foreign Commercial Service, U.S. Department of Commerce, 1401 Constitution Avenue, NW., Room 2114, Washington, DC 20230, Phone: 202-482-0570, Fax: 202-482-0872, E-mail: marlene.ruffin@mail.doc.go.

Dated: September 22, 2005.
Todd Thurwachter,
Director, Office of Trade Event Programs.

[FR Doc. E5-5306 Filed 9-27-05; 8:45 am]

BILLING CODE 3510-DR-P